DEPARTMENT OF COMMERCE

National Institute of Standards and Technology

National Fire Codes: Request for Comments on NFPA's Codes and Standards

AGENCY: National Institute of Standards and Technology, Commerce.

ACTION: Notice.

SUMMARY: The National Institute of Standards and Technology (NIST) is publishing this notice on behalf of the National Fire Protection Association (NFPA) to announce the availability of and request comments on the technical reports that will be reporting in the NFPA's 2013 Fall Revision Cycle.

DATES: Sixteen First Draft Reports are published on the NFPA Web site at http://www.nfpa.org/FDRSDR. Comments received by 5:00 p.m. EST/EDST on November 16, 2012 will be considered by the respective NFPA Committees before final action is taken on the comments.

ADDRESSES: The 2013 Fall Revision Cycle First Draft Reports are available and downloadable from NFPA's Web site at http://www/nfpa.org/FDRSDR. Comments can be submitted online by going to link above.

FOR FURTHER INFORMATION CONTACT: Amy Beasley Cronin, Secretary, Standards Council, NFPA, 1 Batterymarch Park, Quincy, Massachusetts 02169-7471, (617) 770-3000. David F. Alderman, NIST, 100 Bureau Drive, MS 2100, Gaithersburg, MD 20899, email: david.alderman@nist.gov or by phone at 301-975-4019.

SUPPLEMENTARY INFORMATION: Since 1896, the National Fire Protection Association (NFPA) has accomplished its mission by advocating consensus codes and standards, research, training, and education for safety related issues. NFPA's National Fire Codes®, which holds over 295 documents, are administered by more than 240 Technical Committees comprised of approximately 7,600 volunteers and are adopted and used throughout the world. NFPA is a nonprofit membership organization with approximately 70,000 members from over 100 nations, all working together to fulfill the Association's mission.

The NFPA process provides ample opportunity for public participation in the development of its codes and standards. All NFPA codes and standards are revised and updated every three to five years in Revision Cycles that begin twice each year and take approximately two years to complete. Each Revision Cycle proceeds according to a published schedule that includes final dates for all major events in the process. The Code Revision Process contains four basic steps that are followed for developing new documents as well as revising existing documents. Step 1: Public Input Stage, which results in the First Draft Report (formerly ROP); Step 2: Comment Stage, which results in the Second Draft Report (formerly ROC); Step 3: the Association Technical Meeting at the NFPA Conference & Expo; and Step 4: Standards Council consideration and issuance of documents.

Note: Anyone wishing to make Amending Motions on the Second Draft Reports (formerly ROP and ROC) must signal his or her intention by submitting a Notice of Intent to Make a Motion by the Deadline of 5:00 p.m. EST/EDST on or before August 23, 2013. Certified motions will be posted by October 18, 2013. Documents that receive notice of proper Amending Motions (Certified Amending Motions) will be presented for action at the annual June 2014 Association Technical Meeting. Documents that receive no motions will be forwarded directly to the Standards Council for action on issuance.

For more information on these new rules and for up-to-date information on schedules and deadlines for processing NFPA Documents, check the NFPA Web site at www.nfpa.org, or contact NFPA Codes and Standards Administration.

The purpose of this notice is to request comments on the First Draft Report for the NFPA's 2013 Fall Revision Cycle. The publication of this notice by the National Institute of Standards and Technology (NIST) on behalf of NFPA is being undertaken as a public service; NIST does not necessarily endorse, approve, or recommend any of the standards referenced in the notice.

Background

The National Fire Protection Association (NFPA) develops building, fire, and electrical safety codes and standards. Federal agencies frequently use these codes and standards as the basis for developing Federal regulations concerning safety. Often, the Office of the Federal Register approves the incorporation by reference of these standards under 5 U.S.C. 552(a) and 1 CFR Part 51.

Request for Comments

Interested persons may participate in these revisions by submitting written data, views, or arguments to Amy Beasley Cronin, Secretary, Standards Council, NFPA, 1 Batterymarch Park, Quincy, Massachusetts 02169-7471. Commenters may go to the NFPA Web site at http://www.nfpa.org/FDRSDR. Each person submitting a comment should include his or her name and address, identify the notice, and give reasons for any recommendations. Comments received by 5:00 p.m. EST/EDST on November 16, 2012 for the 2013 Fall Revision Cycle First Draft Reports will be considered by the NFPA before final action is taken on the First Draft Reports.

Copies of all written comments received and the disposition of those comments by the NFPA committees will be published as the 2013 Fall Revision Cycle Second Draft Reports and will be available on the NFPA Web site at http://www.nfpa.org/FDRSDR.

2013 Fall Revision Cycle

First Draft Reports

(P = Partial revision; W = Withdrawal; N = New)

NFPA 37 | Standard for the Installation and Use of Stationary Combustion Engines and Gas Turbines | P
NFPA 69 | Standard on Explosion Prevention Systems | P
NFPA 82 | Standard on Incinerators and Waste and Linen Handling Systems and Equipment | P
NFPA 730 | Guide for Premises Security | P
NFPA 731 | Standard for the Installation of Electronic Premises Security Systems | P
NFPA 750 | Standard on Water Mist Fire Protection Systems | P
NFPA 921 | Guide for Fire and Explosion Investigations | P
NFPA 1005 | Standard for Professional Qualifications for Marine Fire Fighting for Land-Based Fire Fighters | P
NFPA 1192 | Standard on Recreational Vehicles | P
NFPA 1194 | Standard for Recreational Vehicle Parks and Campgrounds | P
NFPA 1521 | Standard for Fire Department Safety Officer | P
NFPA 1561 | Standard on Emergency Services Incident Management System | P
NFPA 1670 | Standard on Operations and Training for Technical Search and Rescue Incidents | P
NFPA 1963 | Standard for Fire Hose Connections | P
NFPA 1965 | Standard for Fire Hose Appliances | P
NFPA 1975 | Standard on Station/Work Uniforms for Emergency Services | P

Dated: November 5, 2012.
Willie E. May,
Associate Director for Laboratory Programs.

[FR Doc. 2012-27470 Filed 11-8-12; 8:45 am]

BILLING CODE 3510-13-P